INTERNATIONAL TRADE COMMISSION

Possible Modifications to the International Harmonized System Nomenclature

AGENCY: International Trade Commission.

ACTION: Request for public comments on proposal to delete certain low-trade categories from the Harmonized System.

SUMMARY: The Commission is soliciting the views of interested parties on a proposal before the Review Subcommittee (RSC) of the World Customs Organization (WCO), Brussels, Belgium, to delete certain low-trade headings and subheadings from the international Harmonized Commodity Description and Coding System (Harmonized System or HS).

EFFECTIVE DATE: August 21, 2002.

FOR FURTHER INFORMATION CONTACT: Ronald H. Heller, Office of Tariff Affairs and Trade Agreements (O/TATA) (202/205-2596, E-Mail rheller@usitc.gov). The O/TATA fax number is 202/205-2616.

Background

The Harmonized System was established by an international Convention, which, inter alia, provides that the System should be kept up-to-date in light of changes in technology and patterns of international trade. The international HS nomenclature, which is maintained by the WCO, provides a uniform structural basis for the customs tariff and statistical nomenclatures of all major trading countries of the world, including the United States. The Commission, the U.S. Customs Service and the Bureau of the Census are responsible for the development of U.S. technical proposals concerning the HS under section 1210 of the Omnibus Trade and Competitiveness Act of 1988 (the 1988 Act) (19 U.S.C. 3010). A 1988 notice issued by the United States Trade Representative (53 FR 45646, November 10, 1988), established the Commission as the lead U.S. agency in considering proposals for HS amendments that are intended to ensure that it reflects such changes in technology and trade. The WCO expects to implement the next series of amendments to the HS nomenclature by the year 2007. As part of each review cycle, the RSC considers simplifying the HS by removing lines for which trade falls below a threshold value. HS lines that are eliminated are merged with HS lines containing like products. Noting that the HS has expanded over the years and now comprises 1,244 four-digit headings and 5,224 six-digit subheadings, the Subcommittee requested that the Secretariat examine relevant trade data and develop an initial list of four-digit headings and six-digit subheadings for which world trade in each category did not exceed US$100 million and US$50 million, respectively. Based on preliminary trade data for calendar years 1997-2000 provided by the United Nations Statistical Division, the WCO Secretariat recently published a list of 124 headings and 728 six-digit subheadings that showed world trade below the threshold values. As requested by the RSC, the Secretariat also considered further criteria relating to consistency of low trade and special circumstances (relationship to international conventions, environmental or social concerns, relative importance for developing economies) that might provide justification for retaining an HS item in spite of its low trade value. In this manner, the Secretariat reduced the list of candidates for deletion to 27 four-digit headings and 276 six-digit subheadings. Member countries are invited to examine that “short list” of potential deletions and indicate to the Subcommittee which categories should be retained because (1) more recent trade data reveals that the category in fact exceeds the threshold or (2) international concern over environmental, social or economic issues necessitates monitoring global trade on products in the category despite the low volume of trade. At its 26th session (September 2002), the Subcommittee will begin to examine the Secretariat's list and all national requests for retention of individual categories. The following is a list of the 27 headings and 276 subheadings that meet the Secretariat's full criteria for deletion from the HS. We invite the public to submit comments on this list.

Four-Digit Headings Proposed for Deletion
0503 | 2838 | 7414 | 8004
0509 | 4204 | 7416 | 8005
1402 | 4815 | 7417 | 8006
1403 | 5302 | 7611 | 9112
2305 | 5304 | 7803 | 9203
2611 | 6503 | 7805 | 9204
2612 | 7012 | 7906 |
Six-Digit Subheadings Proposed for Deletion
010310 | 030265 | 030561 | 071130
020820 | 030266 | 030563 | 071420
030191 | 030373 | 040520 | 081030
030233 | 030376 | 070910 | 091030
030261 | 030377 | 070952 | 091040
030263 | 030542 | 070970 | 091050
110210 | 251319 | 283610 | 292112
110230 | 251621 | 283670 | 292222
110422 | 251622 | 283920 | 293010
120710 | 270720 | 284110 | 293610
120730 | 270760 | 284120 | 293921
120760 | 280511 | 284150 | 293929
120924 | 281123 | 290314 | 300110
120926 | 282420 | 290362 | 310270
121110 | 282520 | 290515 | 310320
121210 | 282611 | 290614 | 310410
121230 | 282620 | 290714 | 320630
130110 | 282731 | 290715 | 320643
130214 | 282733 | 290820 | 330111
140410 | 282734 | 290942 | 330114
151540 | 282735 | 291213 | 330121
200320 | 282736 | 291242 | 330122
230220 | 283020 | 291421 | 330123
230670 | 283030 | 291522 | 330126
250621 | 283323 | 291523 | 330130
250629 | 283326 | 291534 | 340410
250820 | 283522 | 291535 | 370220
251311 | 283523 | 291731 | 370520
380520 | 500390 | 530210 | 551433
382420 | 520631 | 530290 | 551439
392072 | 520632 | 530410 | 551592
401013 | 520633 | 530490 | 560420
401036 | 520634 | 530511 | 560710
410310 | 520635 | 530519 | 570251
420610 | 520641 | 530521 | 570252
420690 | 520642 | 530529 | 570259
430130 | 520643 | 530590 | 580310
430170 | 520644 | 540320 | 580390
430213 | 520645 | 540610 | 600510
441131 | 520823 | 540620 | 610110
441139 | 520853 | 550610 | 610311
441223 | 521012 | 550992 | 610312
470411 | 521022 | 551322 | 610319
470419 | 521042 | 551332 | 610321
480230 | 521052 | 551333 | 610411
480910 | 521121 | 551342 | 610412
481430 | 521122 | 551343 | 610421
481610 | 521129 | 551413 | 610792
481630 | 521141 | 551431 | 611110
500310 | 521143 | 551432 | 611410
611720 | 640330 | 811230 | 900620
620321 | 650692 | 811240 | 900662
620510 | 660310 | 842520 | 902740
620792 | 680222 | 842850 | 903130
620910 | 681130 | 843352 | 910112
621131 | 720280 | 844841 | 910620
621310 | 722520 | 845620 | 911220
630252 | 722693 | 847040 | 911290
630292 | 722694 | 847220 | 911410
630293 | 722910 | 850530 | 911420
630311 | 731413 | 850920 | 911440
630611 | 731910 | 850930 | 920410
630621 | 740110 | 851921 | 920420
630631 | 740120 | 851929 | 920910
630639 | 740323 | 851940 | 920920
630641 | 740722 | 854340 | 920993
630649 | 741420 | 860620 | 930610
640191 | 741490 | 880110 | 960420
640230 | 810195 | 880190 | 961490

Copies of the Harmonized Tariff Schedule of the United States Annotated (HTSUSA), which incorporates the international Harmonized System in its overall structure, can be found on the USITC's World Wide Web (WWW) site, http://www.usitc.gov. Hard copies and electronic copies of the HTSUSA can also be found at many of the 1,400 federal Depository Libraries located throughout the United States and its territories; further information about these locations can be found on the WWW at the following location (URL): http://www.access.gpo.gov/su_docs/fdlp/libpro.html, or by contacting GPO Access at the Government Printing Office, 1-888-293-6498. Copies of the WCO Secretariat's report on its analysis of trade data and other factors, its list of low-trade HS lines and its indications of suggested deletions (WCO Doc. NR0270E-B1) is available from the USITC Office of Tariff Affairs and Trade Agreements, as indicated above (See FOR FURTHER INFORMATION CONTACT). This proposal is part of a comprehensive review of the international HS being carried out by the RSC. Its implementation internationally would not require that domestic tariff rates or statistical coverage be eliminated from the Harmonized Tariff Schedule of the United States Annotated (HTSUSA). Any such consequential amendments would be separately considered by the Commission at a later date, pursuant to section 1205 of the 1988 Act. Section 1205 requires that existing duty treatment be retained whenever possible.

Request for Proposals

The Commission is seeking comments on the list of proposed deletions from the HS and, in particular, on those categories for which the United States may request retention. Interested parties, associations and Government agencies should submit specific HS category numbers from the above list which they feel should be retained in the HS and, for each category, the reason for retaining the category in the international system (including, where relevant, trade data).

Deadline

Suggestions must be received no later than the close of business, September 6, 2002, in order to be considered by the Commission.

Written Submissions

All submissions should be addressed to the Secretary, United States International Trade Commission, 500 E St., SW., Washington, DC 20436. Commercial or financial information that a party desires the Commission to treat as confidential must be submitted on separate sheets of paper, each clearly marked “Confidential Business Information” at the top. All submissions requesting confidential treatment must conform with the requirements of section 201.6 of the Commission's rules of practice and procedure (19 CFR 201.6). All written submissions, except for confidential business information, will be made available for inspection by interested persons. TDD Access: Hearing impaired individuals are advised that information on this matter can be obtained by contacting our TDD terminal on (202) 205-1810. World Wide Web Access: This notice, and any subsequent notices published pursuant to section 1210 of the 1988 Act, may be obtained from the ITC Internet web server: http://www.usitc.gov.

By order of the Commission.
Issued: August 26, 2002.
Marilyn R. Abbott,
Secretary to the Commission.

[FR Doc. 02-22186 Filed 8-29-02; 8:45 am]

BILLING CODE 7020-02-P